DEPARTMENT OF STATE

[Public Notice 6523]

Correction of Notice Advising of the Imposition of Sanctions Against Three North Korean Entities

AGENCY: Department of State.

ACTION: Notice; correction.

SUMMARY: The Department of State published a document in the Federal Register of February 2, 2009, concerning the imposition of Category II Missile Sanctions Against Three North Korean Entities. The name of one of the North Korean entities was misspelled.

FOR FURTHER INFORMATION CONTACT: Pam Durham, Office of Missile Threat Reduction, Bureau of International Security and Nonproliferation, Department of State (202-647-4931). On import ban issues, Rochelle Stern, Director Policy Planning and Program Management, Office of Foreign Assets Control, Department of the Treasury (202-622-2500). On U.S. Government procurement ban issues, Kim Triplett, Office of the Procurement Executive, Department of State (703-875-4079).

Correction

In the Federal Register of February 2, 2009, in Public Notice 6503 on page 5881, in the third column, correct the name of the second listed North Korean entity to read:

Moksong Trading Corporation (North Korea) and its sub-units and successors.

Dated: February 4, 2009.
C.S. Eliot Kang,
Acting Assistant Secretary of State for International Security and Nonproliferation, Department of State.

[FR Doc. E9-2926 Filed 2-10-09; 8:45 am]

BILLING CODE 4710-25-P